DEPARTMENT OF COMMERCE

International Trade Administration

[C-714-001]

Phosphate Fertilizers From the Kingdom of Morocco: Final Results of Countervailing Duty Administrative Review; 2022

AGENCY: Enforcement and Compliance, International Trade Administration, Department of Commerce.

SUMMARY: The U.S. Department of Commerce (Commerce) determines that OCP S.A. (OCP), a producer/exporter of phosphate fertilizers from the Kingdom of Morocco (Morocco), received countervailable subsidies during the period of review (POR), January 1, 2022, through December 31, 2022.

DATES: Applicable November 12, 2024.

FOR FURTHER INFORMATION CONTACT: Jaron Moore or Faris Montgomery, AD/CVD Operations, Office VIII, Enforcement and Compliance, International Trade Administration, U.S. Department of Commerce, 1401 Constitution Avenue NW, Washington, DC 20230; telephone: (202) 482-3640 or (202) 482-1537, respectively.

SUPPLEMENTARY INFORMATION:

Background

Commerce published the preliminary results of this administrative review on May 2, 2024.¹ On July 22, 2024, Commerce tolled certain deadlines in this administrative proceeding by seven days.² On August 1, 2024, Commerce extended the deadline for the final results of this review to no later than November 5, 2024.³

¹ See Phosphate Fertilizers from the Kingdom of Morocco: Preliminary Results of the Countervailing Duty Administrative Review, 2022, 89 FR 35800 (May 2, 2024) (Preliminary Results), and accompanying Preliminary Decision Memorandum.

² See Memorandum, “Tolling of Deadlines for Antidumping and Countervailing Duty Proceedings,” dated July 22, 2024.

³ See Memorandum, “Extension of Deadline for the Final Results of Countervailing Duty Administrative Review,” dated August 1, 2024.

For a summary of the events that occurred since the Preliminary Results, see the Issues and Decision Memorandum.⁴ The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

⁴ See Memorandum, “Issues and Decision Memorandum for the Final Results of the Countervailing Duty Administrative Review of Phosphate Fertilizers from the Kingdom of Morocco; 2022,” dated concurrently with, and hereby adopted by, this notice (Issues and Decision Memorandum).

We conducted this review in accordance with section 751 of the Tariff Act of 1930, as amended (the Act).

Scope of the Order

The products covered by this order are phosphate fertilizers. For a complete description of the scope of this order, see the Issues and Decision Memorandum.

Analysis of Comments Received

The issues raised by parties in this administrative review are addressed in the Issues and Decision Memorandum. A list of the issues addressed in the Issues and Decision Memorandum is provided in the appendix to this notice.

Changes Since the Preliminary Results

Based on a review of the record and comments received from interested parties regarding the Preliminary Results, we made certain revisions to the subsidy calculations for OCP. These changes are explained in the Issues and Decision Memorandum.

Final Results of Administrative Review

In accordance with 19 CFR 351.221(b)(4)(i), we calculated an individual net countervailable subsidy rate for OCP. Commerce determines that, during the POR, the net countervailable subsidy rate for the company under review is as follows:

⁵ Commerce has found the following companies to be cross-owned with OCP S.A.: Jorf Fertilizers Company I; Jorf Fertilizers Company II; Jorf Fertilizers Company III; Jorf Fertilizers Company IV; Jorf Fertilizers Company V; and OCP Nutricrops S.A.

Company | Subsidy rate (percent ad valorem)
OCP S.A. ⁵ | 16.81

Disclosure

Commerce intends to disclose the calculations performed for these final results of review within five days of the date of publication of this notice in the Federal Register, in accordance with 19 CFR 351.224(b).

Assessment Rate

Pursuant to section 751(a)(2)(C) of the Act and 19 CFR 351.212(b)(2), Commerce has determined, and U.S. Customs and Border Protection (CBP) shall assess, countervailing duties on all appropriate entries of subject merchandise in accordance with the final results of this review, for the above-listed company at the applicable ad valorem assessment rate. We intend to issue assessment instructions to CBP no earlier than 35 days after the date of publication of the final results of this review in the Federal Register. If a timely summons is filed with the U.S. Court of International Trade, the assessment instructions will direct CBP not to liquidate relevant entries until the time for parties to file a request for a statutory injunction has expired (i.e., within 90 days of publication).

Cash Deposit Rates

In accordance with section 751(a)(1) of the Act, Commerce intends to instruct CBP to collect cash deposits of estimated countervailing duties in the amount shown for OCP on shipments of the subject merchandise entered, or withdrawn from warehouse for consumption, on or after the date of publication of the final results of this administrative review. The cash deposit requirement, effective upon the publication of the final results of this review, shall remain in effect until further notice.

Administrative Protective Order (APO)

This notice also serves as a final reminder to parties subject to an APO of their responsibility concerning the return or destruction of proprietary information disclosed under APO in accordance with 19 CFR 351.305(a)(3). Timely written notification of the return/destruction of APO materials or conversion to judicial protective order is hereby requested. Failure to comply with the regulations and terms of an APO is a sanctionable violation.

Notification to Interested Parties

These final results are issued and published in accordance with sections 751(a)(1) and 777(i)(1) of the Act, and 19 CFR 351.221(b)(5).

Dated: November 5, 2024.
Abdelali Elouaradia,
Deputy Assistant Secretary for Enforcement and Compliance.

Appendix

List of Topics Discussed in the Issues and Decision Memorandum

I. Summary

II. Background

III. Scope of the Order

IV. Subsidies Valuation

V. Analysis of Programs

VI. Discussion of the Issues

Comment 1: Whether Commerce Can Seek Information Regarding Previously Investigated Programs That Commerce Found Conferred No Benefit and “Other Assistance” Provided by the GOM

Comment 2A: Whether Commerce Should Revise the Phosphate Rock Benchmark for the Provision of Phosphate Mining Rights for Less Than Adequate Remuneration (LTAR) Program

Comment 2B: Whether Commerce Should Include Headquarters (HQ), Support, and Debt Costs in the Costs of Producing Phosphate Rock for the Benchmark for the Provision of Phosphate Mining Rights for LTAR Program

Comment 2C: Whether Commerce Should Revise the Methodology for the Calculation of OCP's Profit Rate Used in its Valuation of OCP's Phosphate Rock

Comment 3A: Whether Certain of OCP's Land Purchases Provided a Financial Contribution from the GOM

Comment 3B: Whether the Provision of Land for LTAR is Specific

Comment 3C: Whether Commerce Should Include Certain Land Transactions in the Benchmark Calculation for the Provision of Land for LTAR

Comment 3D: Whether Commerce Should Include OCP's Land Transactions Subject to Ongoing Judicial Proceedings in the Benefit Calculation for the Provision of Land for LTAR

Comment 3E: Whether Commerce Should Correct Arithmetical Errors in the Provision of Land for LTAR Calculation of Benefit

Comment 4: Whether Commerce Should Include Transactions from Countries with Free Trade Agreements (FTAs) with Morocco in OCP's Benefit Calculation for the Customs Duty Exemptions for Capital Goods, Machinery, and Equipment Program

Comment 5: Whether the Provision of Port Services and Infrastructure for LTAR Program Provided a Countervailable Benefit to OCP During the POR

Comment 6: Whether Marsa Maroc's Provision of Port and Vessel Services is Consistent with Market Principles

Comment 7: Whether Commerce Should Make Certain Changes to its Cash Deposit Instructions

VII. Recommendation

[FR Doc. 2024-26178 Filed 11-8-24; 8:45 am]

BILLING CODE 3510-DS-P